DEPARTMENT OF HOMELAND SECURITY

Coast Guard

33 CFR Part 100

[Docket No. USCG-2018-0540]

Special Local Regulation: Seminole Hard Rock Winterfest Holiday Boat Parade

AGENCY: Coast Guard, DHS.

ACTION: Notice of enforcement of regulation.

SUMMARY: The Coast Guard will enforce a special local regulation on December 15, 2018 from 2:00 p.m. through 11:30 p.m. to provide for the safety and security of navigable waterways during the Seminole Hard Rock Winterfest Holiday Boat Parade. During the enforcement period, all non-participant persons and vessels will be prohibited from entering, transiting, anchoring in, or remaining within the regulated area unless authorized by the Captain of the Port Miami or a designated representative. The operator of any vessel in the regulated area must comply with instructions from the Coast Guard or designated representative.

DATES: The regulation in 33 CFR 100.701, Table to § 100.701, Line 14 will be enforced on December 15, 2018 from 2:00 p.m. through 11:30 p.m.

FOR FURTHER INFORMATION CONTACT: If you have questions about this notice of enforcement, call or email Petty Officer Mara J. Brown, Sector Miami Waterways Management Division, U.S. Coast Guard: Telephone: 305-535-4317, Email: Mara.J.Brown@uscg.mil.

SUPPLEMENTARY INFORMATION: The Coast Guard will enforce a special local regulation for the Seminole Hard Rock Winterfest Holiday Boat Parade published in 33 CFR 100.701, Table to § 100.701, Line 14 on December 15, 2018 from 2:00 p.m. through 11:30 p.m. This action is being taken to provide for the safety and security of navigable waterways during this one-day event. Our regulation for marine events within the Seventh Coast Guard District, § 100.701, specifies the location of the special local regulation for the Seminole Hard Rock Winterfest Holiday Boat Parade, which encompasses a moving buffer zone of 50 yards around the parade as it travels along the New River and Intracoastal Waterway in Ft. Lauderdale, FL. Only event sponsor designated participants and official patrol vessels will be allowed to enter the regulated area. Spectators may contact the Coast Guard Patrol Commander to request permission to pass through the regulated area. If permission is granted, spectators must pass directly through the regulated area at a safe speed without loitering.

In addition to this notice of enforcement in the Federal Register, the Coast Guard will inform the public through Local Notice to Mariners and marine information broadcasts at least 24 hours in advance of the enforcement of the special local regulation.

Dated: November 27, 2018.
M.M. Dean,
Captain, U.S. Coast Guard, Captain of the Port Miami.

[FR Doc. 2018-26098 Filed 11-30-18; 8:45 am]

BILLING CODE 9110-04-P